DEPARTMENT OF DEFENSE

Department of the Navy

Notice of Availability of Government-Owned Invention; Available for Licensing

AGENCY: Department of the Navy, DoD.

ACTION: Notice.

SUMMARY: The invention listed below is assigned to the United States Government as represented by the Secretary of the Navy and is available for licensing by the Department of the Navy. U.S. Patent No. 6,459,079 B1 entitled, “SHIPBOARD CHEMICAL AGENT MONITOR—PORTABLE (SCAMP).”

ADDRESSES: Requests for copies of the patent cited should be directed to the Naval Surface Warfare Center, Dahlgren Div., Code XDC1, 17320 Dahlgren Rd., Dahlgren, VA 22448-5100.

FOR FURTHER INFORMATION CONTACT: Matthew J. Bussan, Patent Counsel, Naval Surface Warfare Center, Dahlgren Div., Code XDC1, 17320 Dahlgren Rd., Building 183, Room 4, Dahlgren, VA 22448-5100, telephone (540) 653-8061.

(Authority: 35 U.S.C. 207, 37 CFR Part 404.)

Dated: June 11, 2003.
E.F. McDonnell,
Major, U.S. Marine Corps, Federal Register Liaison Officer.

[FR Doc. 03-15322 Filed 6-17-03; 8:45 am]

BILLING CODE 3810-FF-P